DEPARTMENT OF COMMERCE

Foreign-Trade Zones Board

[Docket 10-2007]

Foreign-Trade Zone 38 - Spartanburg County, South Carolina, Application for Subzone, Kravet, Inc. (Textile Sampling), Anderson, South Carolina

An application has been submitted to the Foreign-Trade Zones Board (the Board) by the South Carolina State Ports Authority, grantee of FTZ 38, requesting special-purpose subzone status for the textile distribution and sampling facility of Kravet, Inc. (Kravet), located in Anderson, South Carolina. The application was submitted pursuant to the provisions of the Foreign-Trade Zones Act, as amended (19 U.S.C. 81a-81u), and the regulations of the Board (15 CFR part 400). It was formally filed on March 6, 2007.

The Kravet facility (335 employees, 66.5 acres) is located at 1500 U.S. Highway 29 South, in Anderson, South Carolina. The facility is used for the processing of commercial textile samples. Materials sourced from abroad, representing some 40%% of all merchandise include: silk, wool, woven fabric, cotton yarn, dyed cotton, twill, printed cotton woven, other cotton fabric, hemp, woven flax, woven jute, woven synthetic fabric, woven nylon fabric, other fabrics, acrylics, rayon, satin, carpets, cotton gauze, vegetable fiber gauze, tulle, ribbons, embroidery, quilted textile products, plastic and rubber textiles, wall covers, man-made fibers, pile fabrics, knit, knitted or crocheted fabrics, warp knit fabrics, and double knit fabrics (duty rates range from duty-free to 25%%).

FTZ procedures would exempt Kravet from customs duty payments on the foreign components used in export production. Some 15 percent of the plant's shipments are exported. On its domestic shipments, Kravet would be able to choose the duty rates during customs entry procedures that apply to samples (duty-free) for the textile samples produced at the facility. On the non-sample textile shipments, the company would be able to defer duty on the imported merchandise until it is entered for consumption. The request indicates that the savings from FTZ procedures would help improve the plant's international competitiveness.

In accordance with the Board's regulations, a member of the FTZ staff has been designated examiner to investigate the application and report to the Board.

Public comment is invited from interested parties. Submissions (original and 3 copies) shall be addressed to the Board's Executive Secretary at the address below. The closing period for their receipt is May 21, 2007. Rebuttal comments in response to material submitted during the foregoing period may be submitted during the subsequent 15-day period to June 4, 2007.

A copy of the application and accompanying exhibits will be available for public inspection at each of the following locations:

U.S. Department of Commerce Export Assistance Center, 555 North Pleasantburg Drive, Building 1, Suite 109, Greenville, South Carolina, 29607.

Office of the Executive Secretary, Foreign-Trade Zones Board, U.S. Department of Commerce, Room 2814B, 1401 Constitution Ave., NW, Washington, DC 20230.

For further information, contact Elizabeth Whiteman at Elizabeth_Whiteman@ita.doc.gov or (202) 482-0473.

Dated: March 6, 2007.
Andrew McGilvray,
Executive Secretary.

[FR Doc. E7-5064 Filed 3-19-07; 8:45 am]

BILLING CODE 3510-DS-S